NATIONAL FOUNDATION ON THE ARTS AND THE HUMANITIES

National Council on the Arts 180th Meeting

AGENCY: National Endowment for the Arts, National Foundation on the Arts and Humanities.

ACTION: Notice of meeting.

SUMMARY: Pursuant to section 10 (a) (2) of the Federal Advisory Committee Act (Pub. L. 92-463), as amended, notice is hereby given that a meeting of the National Council on the Arts will be held at the Nancy Hanks Center, 1100 Pennsylvania Avenue NW., Washington, DC 20506. Agenda times are approximate.

DATES: October 25, 2013 from 9:00 a.m. to 11:30 a.m. in Room M-09.

FOR FURTHER INFORMATION CONTACT: Office of Public Affairs, National Endowment for the Arts, Washington, DC 20506, at 202/682-5570.

SUPPLEMENTARY INFORMATION: The meeting, on Friday, October 25th will be open to the public on a space available basis and also will be webcast. The meeting will begin with opening remarks, presentation of Guidelines, and voting on recommendations for funding and rejection, followed by updates by the Senior Deputy Chairman. From 10:00 a.m. to 10:45 a.m. there will be a joint presentation by the NEA Office of Research and Analysis and the U.S. Bureau of Economic Analysis on the Arts and Cultural Production Satellite Account. Other business will be discussed from 10:45-11:15 a.m., with concluding remarks and voting results at 11:15 a.m.. The meeting will adjourn at 11:30 a.m.

For information about webcasting of the open session of this meeting, go to the Open Government page at www.arts.gov.

If, in the course of the open session discussion, it becomes necessary for the Council to discuss non-public commercial or financial information of intrinsic value, the Council will go into closed session pursuant to subsection (c)(4) of the Government in the Sunshine Act, 5 U.S.C. 552b, and in accordance with the February 15, 2012 determination of the Chairman. Additionally, discussion concerning purely personal information about individuals, such as personal biographical and salary data or medical information, may be conducted by the Council in closed session in accordance with subsection (c)(6) of 5 U.S.C. 552b.

Any interested persons may attend, as observers, Council discussions and reviews that are open to the public. If you need special accommodations due to a disability, please contact the Office of Accessibility, National Endowment for the Arts, 1100 Pennsylvania Avenue NW., Washington, DC 20506, 202/682-5733, Voice/T.T.Y. 202/682-5496, at least seven (7) days prior to the meeting.

Dated: September 30, 2013.
Kathy Plowitz-Worden,
Panel Coordinator, Office of Guidelines and Panel Operations.

[FR Doc. 2013-24227 Filed 10-2-13; 8:45 am]

BILLING CODE 7537-01-P